FEDERAL DEPOSIT INSURANCE CORPORATION

[OMB No. 3064-0083; −0085; −0099; −0137; −0148; −0149; −0182; −0194]

Agency Information Collection Activities: Submission for OMB Review; Comment Request

AGENCY: Federal Deposit Insurance Corporation (FDIC).

ACTION: Agency Information Collection Activities: Submission for OMB Review; Comment Request.

SUMMARY: The FDIC, as part of its obligations under the Paperwork Reduction Act of 1995, invites the general public and other Federal agencies to take this opportunity to comment on the renewal of the existing information collections described below. The FDIC published notices in the Federal Register requesting comment for 60 days on a proposal to renew these information collections. The FDIC hereby gives notice of its plan to submit to OMB a request to approve the renewal of these information collections, and again invites comment on the renewal.

DATES: Comments must be submitted on or before December 30, 2020.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION, CONTACT: Manny Cabeza, Regulatory Counsel, 202-898-3767, mcabeza@fdic.gov, MB-3128, Federal Deposit Insurance Corporation, 550 17th Street NW, Washington, DC 20429.

SUPPLEMENTARY INFORMATION: The FDIC published notices in the Federal Register requesting comment for 60 days on a proposal to renew the following information collections.¹ The FDIC is submitting to OMB a request to approve the proposed renewal of the following information collections:

¹ 85 FR 55287 Sept 4, 2020; and 85 FR 59797 Sept 23, 2020

1. Title: Recordkeeping and Disclosure Requirements in Connection with Regulation M (Consumer Leasing).

OMB Number: 3064-0083.

Form Number: None.

Affected Public: State nonmember banks and state savings associations engaging in consumer leasing.

Summary of Annual Burden
Information collection description | Type of burden | Obligation to respond | Estimated number of respondents | Estimated frequency of responses | Estimated time per response | Estimated annual burden (hours)
Recordkeeping and Disclosure Requirements in Connection with Regulation M (Consumer Leasing) | Recordkeeping | Mandatory | 52 | On Occasion | 0.375 | 1,950
Recordkeeping and Disclosure Requirements in Connection with Regulation M (Consumer Leasing) | Third-Party Disclosure | Mandatory | 52 | On Occasion | 0.375 | 1,950

Total Estimated Annual Burden: 3,900 hours.

General Description of Collection: Regulation M (12 CFR 1013), issued by the Bureau of Consumer Financial Protection, implements the consumer leasing provisions of the Truth in Lending Act. Regulation M requires lessors of personal property to provide consumers with meaningful disclosures about the costs and terms of the leases for personal property. Lessors are required to retain evidence of compliance with Regulation M for twenty-four months. There is no change in the methodology or substance of this information collection. The estimated annual burden is unchanged.

2. Title: Record Keeping, Reporting and Disclosure Requirements in Connection with the Equal Credit Opportunity Act Regulation B.

OMB Number: 3064-0085.

Form Number: None.

Affected Public: Insured state nonmember banks and state savings associations.

Burden Estimate:

Summary of Annual Burden
Information collection description | Type of burden | Obligation to respond | Estimated number of respondents | Estimated average annual frequency of responses | Estimated total annual responses | Estimated time per response | Estimated annual burden (hours)
Credit Reporting History (1002.10) | Reporting | Mandatory | 3,309 | 850 | 2,812,650 | 2 minutes | 93,755
Total Reporting Burden |  |  |  |  |  |  | 93,755
Disclosure for Optional Self-Test (1002.5) | Third-Party Disclosure | Voluntary | 972 | 2,500 | 2,430,000 | 1 minute | 40,500
Notifications (1002.9) | Third-Party Disclosure | Mandatory | 3,309 | 1,715 | 5,674,935 | 2 minutes | 189,165
Appraisal Report Upon Request (1002.12(a)(1)) | Third-Party Disclosure | Mandatory | 3,309 | 190 | 628,710 | 1 minute | 10,479
Notice of Right to Appraisal (1002.14(a)(2)) | Third-Party Disclosure | Mandatory | 3,309 | 1,650 | 5,459,850 | 1 minute | 90,998
Total Third-Party Disclosure Burden |  |  |  |  |  |  | 331,142
Record Retention (Applications, Actions, Pre-Screened Solicitations)(1002.12) | Recordkeeping | Mandatory | 3,309 | 360 | 1,191,240 | 1 minute | 19,854
Record Retention (Self-Testing)(1002.12) | Recordkeeping | Mandatory | 972 | 1 | 972 | 2 hours | 1,944
Record Retention (Self-Testing Self-Correction) (1002.15) | Recordkeeping | Mandatory | 243 | 1 | 243 | 8 hours | 1,944
Total Recordkeeping Burden |  |  |  |  |  |  | 23,742

Total Estimated Annual Burden: 448,639 hours.

General Description of Collection: Regulation B (12 CFR part 1002) issued by the Consumer Financial Protection Bureau, prohibits creditors from discriminating against applicants on any bases specified by the Equal Credit Opportunity Act; imposes, reporting, record keeping and disclosure requirements; establishes guidelines for gathering and evaluating credit information; and requires creditors to give applicants certain written notices. There is no change in the method or substance of the collection. The overall reduction in burden hours is a result of economic fluctuation. In particular, the number of respondents has decreased while the reporting frequency and the estimated time per response remain the same.

3. Title: Application for Waiver of Prohibition on Acceptance of Brokered Deposits.

OMB Number: 3064-0099.

Form Number: None.

Affected Public: Insured state nonmember banks and state savings associations.

Burden Estimate:

Summary of Annual Burden
Information collection description | Type of burden | Obligation to respond | Estimated number of respondents | Estimated frequency of responses | Estimated time per response (hours) | Estimated annual burden (hours)
Application for Waiver of Prohibition on Acceptance of Brokered Deposits | Reporting | Mandatory | 17 | On Occasion | 6 | 102

Total Estimated Annual Burden: 102 hours.

General Description of Collection: Section 29 of the Federal Deposit Insurance Act prohibits undercapitalized insured depository institutions from accepting, renewing, or rolling over any brokered deposits. Adequately capitalized institutions may do so with a waiver from the FDIC, while well-capitalized institutions may accept, renew, or roll over brokered deposits without restriction. This information collection captures the burden associated with preparing and filing an application for a waiver of the prohibition on the acceptance of brokered deposits.

4. Title: Interagency Guidance on Asset Securitization Activities.

OMB Number: 3064-0137.

Form Number: None.

Affected Public: Insured State Nonmember Banks and State Savings Associations.

Burden Estimate:

Summary of Annual Burden
Information collection description | Type of burden | Obligation to respond | Estimated number of respondents | Estimated frequency of responses | Estimated time per response (hours) | Estimated annual burden (hours)
Documentation of Fair Value | Recordkeeping | Mandatory | 20 | On Occasion | 4 | 80
Asset Securitization Policies—New Entrant | Recordkeeping | Mandatory | 6 | On Occasion | 32 | 192
Asset Securitization Policies—Upgrades of Policies | Recordkeeping | Mandatory | 2 | On Occasion | 3 | 6
MIS Improvements—New Entrant | Recordkeeping | Mandatory | 6 | On Occasion | 21 | 126
MIS Improvements—Systems Upgrades | Recordkeeping | Mandatory | 2 | On Occasion | 5 | 10

Total Estimated Annual Burden: 414.

General Description of Collection: The Interagency Guidance on Asset Securitization Activities informs bankers and examiners of safe and sound practices regarding asset securitization. The information collections contained in the Interagency Guidance are needed by institutions to manage their asset securitization activities in a safe and sound manner. Bank management uses this information as the basis for the safe and sound operation of their asset securitization activities and to ensure that they minimize operational risk in these activities. There is no change in the method or substance of the information collection. The overall 257-hour increase in estimated annual burden (from 157 hours in 2017 to 414 hours currently) is the result of economic fluctuation. In particular, the number of respondents has increased while the reporting frequency and the estimated time per response remain the same.

5. Title: Interagency Statement on Sound Practices Concerning Complex Structured Finance Transactions.

OMB Number: 3064-0148.

Form Number: None.

Affected Public: Insured state nonmember banks and state savings associations.

Burden Estimate:

Summary of Annual Burden
Information collection description | Type of burden | Obligation to respond | Estimated number of respondents | Estimated frequency of responses | Estimated time per response (hours) | Estimated annual burden (hours)
Complex Structured Finance Transactions | Recordkeeping | Mandatory | 4 | On Occasion | 25 | 100

Total Estimated Annual Burden: 100 hours.

General Description of Collection: The Interagency Statement on Sound Practices Concerning Complex Structured Finance Transactions describes the types of internal controls and risk management procedures that the Agencies believe are particularly effective in assisting financial institutions to identify, evaluate, assess, document, and control the full range of credit, market, operational, legal and reputational risks. A financial institution that engages in complex structured finance transactions should maintain a set of formal, written, firm-wide policies and procedures that are designed to allow the institution to identify and assess these risks. There is no change in the methodology or substance of this information collection. The estimated annual burden is unchanged.

6. Title: Affiliate Marketing/Consumer Opt-out Notices.

OMB Number: 3064-0149.

Form Number: None.

Affected Public: Insured state nonmember banks and state savings associations that have affiliates and consumers that have a relationship with the foregoing.

Burden Estimate:

Summary of Annual Burden
Information collection description | Type of burden | Obligation to respond | Estimated number of respondents | Estimated frequency of responses | Estimated time per response | Estimated annual burden (hours)
Affiliate Marketing Disclosure—Implementation | Third-Party Disclosure | Mandatory | 8 | Annually | 6 hours | 144
Consumer Opt Out Notices | Third-Party Disclosure | Voluntary | 857,027 | Annually | 5 minutes | 71,419
Affiliate Marketing Disclosure—Ongoing | Third-Party Disclosure | Mandatory | 990 | Annually | 2 hours | 1,980

Total Estimated Annual Burden: 73, 543 hours

General Description of Collection: Section 214 of the FACT Act requires financial institutions that wish to share information about consumers with their affiliates, to inform such consumers that they have the opportunity to opt out of such marketing solicitations. The disclosure notices and consumer responses thereto comprise the elements of this collection of information.

7. Title: Retail Foreign Exchange Transactions.

OMB Number: 3064-0182.

Form Number: None.

Affected Public: Insured state nonmember banks and state savings associations.

Burden Estimate:

Summary of Annual Burden
Information collection description | Type of burden | Obligation to respond | Estimated number of respondents | Frequency of response | Estimated total annual responses | Estimated time per response (hours) | Estimated annual burden (hours)
Reporting Requirements | Reporting | Mandatory | 1 | On Occasion | 1 | 16 | 16
Total Reporting Burden |  |  |  |  |  |  | 16
Third-Party Disclosure Requirements | Third-Party Disclosure | Mandatory | 1 | On Occasion | 1 | 166 | 166
Total Third-Party Disclosure Burden |  |  |  |  |  |  | 166
Recordkeeping Requirements | Recordkeeping | Mandatory | 1 | On Occasion | 1 | 1,332 | 1,332
Total Recordkeeping Burden: |  |  |  |  |  |  | 1,332

Total Estimated Annual Burden:1,514 hours.

General Description of Collection: This information collection implements section 742(c)(2) of the Dodd-Frank Act (7 U.S.C. 2(c)(2)(E) and FDIC regulations governing retail foreign exchange transactions as set forth at 12 CFR part 349, subpart B. The regulation allows banking organizations under FDIC supervision to engage in off-exchange transactions in foreign currency with retail customers provided they comply with various reporting, recordkeeping and third-party disclosure requirements specified in the rule. If an institution elects to conduct such transactions, compliance with the information collection is mandatory.

Reporting Requirements—Part 349, subpart B requires that, prior to initiating a retail foreign exchange business; a banking institution must provide the FDIC with a notice certifying that the institution has written policies and procedures, and risk measurement and management systems and controls in place to ensure that retail foreign exchange transactions are conducted in a safe and sound manner. The institution must also provide information about how it intends to manage customer due diligence, new product approvals and haircuts applied to noncash margin.

Recordkeeping Requirements—Part 349 subpart B requires that institutions engaging in retail foreign exchange transactions keep full, complete and systematic records of account, financial ledger, transaction, memorandum orders and post execution allocations of bunched orders. In addition, institutions are required to maintain records regarding their ratio of profitable accounts, possible violations of law, records of noncash margin and monthly statements and confirmations issued.

Disclosure Requirements—The regulation requires that, before opening an account that will engage in retail foreign exchange transactions, a banking institution must obtain from each retail foreign exchange customer an acknowledgement of receipt and understanding of a written disclosure specified in the rule and of disclosures about the banking institution's fees and other charges and of its profitable accounts ratio. The institution must also provide monthly statements to each retail foreign exchange customer and must send confirmation statements following every transaction.

The customer dispute resolution provisions of the regulation require certain endorsements, acknowledgements and signature language as well as the timely provision of a list of persons qualified to handle a customer's request for arbitration.

There is no change in the method or substance of the collection. At present no FDIC-supervised institution is engaging in activities that would make them subject to the information collection requirements. The agency is keeping the estimated number of respondents to one (1) as a placeholder in case an institution elects to engage in covered activities in the future. There has been no change in the frequency of response or in the estimated number of hours required to respond.

8. Title: Covered Financial Company Asset Purchaser Eligibility Certification.

OMB Number: 3064-0194.

Form Number: 7300/10.

Affected Public: Any individual or entity that is a potential purchaser of assets from (1) the FDIC as receiver for a Covered Financial Company (CFC); or (2) a bridge financial company (BFC) which requires the approval of the FDIC, as receiver for the predecessor CFC and as the sole shareholder of the BFC (e.g., the BFC's sale of a significant business line).

Burden Estimate:

Summary of Annual Burden
Information collection description | Type of burden | Obligation to respond | Estimated number of respondents | Estimated frequency of responses | Estimated time per response (minutes) | Estimated annual burden (hours)
Covered Financial Company Asset Sales Purchaser Eligibility Certification | Reporting | Mandatory | 10 | On Occasion | 30 Minutes | 5

Total Estimated Annual Burden: 5 hours.

General Description of Collection: Assets held by the FDIC in the course of liquidating any covered financial company must not be sold to persons who contributed to the demise of a covered financial company in specified ways (e.g., individuals who profited or engaged in wrongdoing at the expense of the failed institution, or seriously mismanaged the failed institution). 12 CFR part 380 requires prospective purchasers to complete and submit a Purchaser Eligibility Certification (PEC) to the FDIC. The PEC is a self certification by a prospective purchaser that it does not fall into any of the categories of individuals or entities that are prohibited by statute or regulation from purchasing the assets of covered financial companies. The PEC will be required in connection with the sale of assets by the FDIC, as receiver for a CFC, or the sale of assets by a BFC which requires the approval of the FDIC, as receiver for the predecessor CFC and as the sole shareholder of the BFC. There is no change in the methodology or substance of this information collection. The estimated annual burden is unchanged.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on November 24, 2020.
James P. Sheesley,
Assistant Executive Secretary.

[FR Doc. 2020-26323 Filed 11-25-20; 8:45 am]

BILLING CODE 6714-01-P